ENVIRONMENTAL PROTECTION AGENCY

[ER-FRL-6637-1]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in the Federal Register dated April 12, 2002 (67 FR 17992).

Draft EISs

ERP No. D-AFS-J65368-UT Rating LO, Duck Creek—Swains Access (Duck/Swains), Management Project, Wildlife Habitat, Soil and Watershed Conditions and Motorized Vehicle Use Management Improvements, Dixie National Forest, Cedar City Ranger District, Iron, Garfield and Kane Counties, UT.

Summary: EPA expressed lack of objections and fully supports closing excess, redundant and damaging roads with appropriate mitigation measures to decrease road density.

ERP No. D-AFS-L65406-ID Rating LO, North Kennedy-Cottonwood Stewardship Project, Existing Transportation System Modifications and Forest Health Improvements through Vegetation Management both Commercial and Non-Commercial Methods, Boise National Forest, Emmett Ranger District, Gem and Valley Counties, ID.

Summary: EPA expressed lack of objections with the proposed action. EPA suggested that additional information on the road closure/management and revegetation measures to improve habitat to meet Forest Plan Wildlife Recovery goals should be included in the Final EIS.

ERP No. D-COE-L36115-WA Rating EC2, Centralia Flood Damage Reduction Project, Chehalis River, Lewis and Thurston Counties, WA.

Summary: EPA expressed environmental concerns and recommended that the Corps improve the Purpose and Need Statement, provide additional and/or revised alternatives, supply supportive information on environmental sustainability, disclose compliance with floodplain management (Executive Order 110998) and address approved flood maps, and address indirect and cumulative impacts for this proposed project.

ERP No. D-FRC-L05228-ID Rating NS, Bear River Hydroelectric Project, Application for a New License (Relicense) for Three Existing Hydroelectric Projects: Soda (FERC No. 20-019), Grace-Cove (FERC No. 2401-007) and Oneida (FERC No. 472-017), Bear River Basin, Caribou and Franklin Counties, ID.

Summary: EPA used a screening tool to conduct a limited review of the draft EIS. Based on the screen, EPA does not foresee having any environmental objections to the proposed project. Therefore, a detailed review of the draft EIS was not conducted.

ERP No. D-IBR-K39076-00 Rating EC2, Navajo Reservoir Operations, Operational Changes to Navajo Dam and Reservoir, Related Flow Recommendation, Implementation and Funding, Navajo Unit-San Juan River, NM, CO and UT.

Summary: EPA has environmental concerns with the long-term sustainability of additional water development in the Basin and urged an equitable balance of available water supplies, water supply commitments, and environmental needs. EPA strongly encouraged development of the Memorandum of Agreement to protect water released for endangered species from diversion by intervening appropriators. While EPA supports reoperation of Navajo Dam to implement the Flow Recommendations, EPA has concerns regarding water quality, mitigation, indirect and cumulative impacts, monitoring and the adaptive management plan.

ERP No. D-NOA-K91011-00 Rating EC2, 2003 Pacific Coast Groundfish Fishery, Groundfish Acceptable Biological Catch and Optimum Yield Specifications and Management Measures, Implementation, WA, OR and CA.

Summary: EPA has environmental concerns based on insufficient information on stock rebuilding, enforcement of harvest measures, relationship between federal and state groundfish fisheries, trawl vessels exemptions, indirect impacts and tribal fishing rights.

ERP No. D-SFW-K64022-CA Rating EC2, Aquatic Habitat Conservation Plan and Candidate Conservation Agreement with Assurances to Conserve Habitat for and Mitigate Impacts on Six Aquatic Species, USFWS Enhancement of Survival Permit and an USMFS Incidental Take Permit Issuance, Humboldt and Del Norte Counties, CA.

Summary: EPA commended the approach of developing a comprehensive aquatic management strategy to address potential impacts to listed and potentially listed fish and amphibian species, but expressed specific environmental concerns related to water temperature impacts.

ERP No. D-USN-K52004-CA Rating EC2, Advanced Amphibious Assault Vehicle (AAAV) Development, Replacement and Establishment, Implementation, Del Mar Basin Area of Marine Base Corps (MCB) Camp Pendelton, San Diego County, CA.

Summary: EPA expressed environmental concerns, noting that additional mitigation may be available to potentially reduce the project's environmental impacts, including impacts to (non-ocean) surface water quality and air quality.

ERP No. DA-FAA-E40785-FL Rating EC2, Fort Lauderdale-Hollywood International Airport, Runway 9R-2FL Expansion and other Associated Improvements, New Information concerning the Predicted Number of Residents Impacted by Noise for Alternatives using 2000 Census Block Data or Field Inspection, Funding, Broward County, FL.

Summary: EPA continues to have environmental concerns with noise regarding the residences located south of the runway proposed for extension. Additional mitigation through residential acquisition over time was requested.

Final EISs

ERP No. F-COE-K39073-CA, Middle Creek Flood Damage Reduction and Ecosystem Restoration Project located between Highway 20 and Middle Creek immediately northwest of Clear Lake, Implementation, Lake County, CA.

Summary: EPA reviewed the EIS and found that the document adequately addresses the issues raised in our comment letter on the DEIS.

ERP No. F-IBR-K31003-CA, Imperial Irrigation District Water Conservation and Transfer Project and Draft Habitat Conservation Plan (HCP), Implementation and U.S. Fish and Wildlife Service Section 10 Incidental Take Permit Approval and Issuance, Colorado River, Imperial County, CA.

Summary: EPA continues to have environmental objections to the potential adverse impacts on surface and groundwater quality, air quality and biological resources and believes these objections could be addressed by the new proposed Habitat Conservation Plan and the Salton Sea Restoration Project.

ERP No. F-IBR-K39072-00, Implementation Agreement (IA), Inadvertent Overrun and Payback Policy (IOP) and Related Federal Actions, Implementation, Quantification Settlement Agreement (QSA), Lower Colorado River, in the States of AZ, CA and NV.

Summary: EPA continues to have environmental concern with the potential cumulative impacts on water quality constituents in drinking water sources and cumulative impacts on Indian Trust assets. EPA believes these concerns could be addressed by the new proposed Habitat Conservation Plan and the Salton Sea Restoration Project.

ERP No. F-NAS-A12043-00, PROGRAMMATIC—MARS Exploration Rover—2003 (MER-2003) Project, Continuing the Long-Term Exploration of MARS, Implementation.

Summary: EPA has no objection to the proposed action.

Dated: January 21, 2003.
Joseph C. Montgomery,
Director, NEPA Compliance Division, Office of Federal Activities.

[FR Doc. 03-1622 Filed 1-23-03; 8:45 am]

BILLING CODE 6560-50-P